DEPARTMENT OF ENERGY

Federal Energy Regulatory Commission

Combined Notice of Filings #1

Take notice that the Commission received the following electric rate filings:

Docket Numbers: ER10-2179-024; ER10-2181-024; ER10-2182-024.

Applicants: Calvert Cliffs Nuclear Power Plant, LLC, Nine Mile Point Nuclear Station, LLC, R.E. Ginna Nuclear Power Plant, LLC.

Description: Notice of Non-material Change in Status of the CENG Nuclear Entities.

Filed Date: 10/23/14.

Accession Number: 20141023-5173.

Comments Due: 5 p.m. ET 11/13/14.

Docket Numbers: ER14-1221-001.

Applicants: PJM Interconnection, L.L.C.

Description: Compliance filing per 35: Compliance Filling, First Revised Service Agreement No. 3752 to be effective 12/31/2013.

Filed Date: 10/24/14.

Accession Number: 20141024-5066.

Comments Due: 5 p.m. ET 11/14/14.

Docket Numbers: ER14-2430-002.

Applicants: Arizona Public Service Company.

Description: Tariff Amendment per 35.17(b): Response to Hyder Deficiency Letter dated 9/23/14 to be effective 8/13/2014.

Filed Date: 10/24/14.

Accession Number: 20141024-5076.

Comments Due: 5 p.m. ET 11/14/14.

Docket Numbers: ER14-2563-001.

Applicants: Tucson Electric Power Company.

Description: Compliance filing per 35: Additional Changes to Order No. 792 Compliance Filing to be effective 8/4/2014.

Filed Date: 10/24/14.

Accession Number: 20141024-5069.

Comments Due: 5 p.m. ET 11/14/14.

Docket Numbers: ER14-2564-001.

Applicants: UNS Electric, Inc.

Description: Compliance filing per 35: Additional Changes to Order No. 792 Compliance Filing to be effective 8/4/2014.

Filed Date: 10/24/14.

Accession Number: 20141024-5075.

Comments Due: 5 p.m. ET 11/14/14.

Docket Numbers: ER14-2939-001.

Applicants: Imperial Valley Solar Company (IVSC) 2, LLC.

Description: Tariff Amendment per 35.17(b): Amendment to Initial Market-Based Rate Application to be effective 11/24/2014.

Filed Date: 10/24/14.

Accession Number: 20141024-5122.

Comments Due: 5 p.m. ET 11/14/14.

Docket Numbers: ER15-177-000.

Applicants: Southern California Edison Company.

Description: § 205(d) rate filing per 35.13(a)(2)(iii): Distribution Service Agreement with Ecos Energy, LLC for Utah-Mesa Solar Project to be effective 12/24/2014.

Filed Date: 10/24/14.

Accession Number: 20141024-5002.

Comments Due: 5 p.m. ET 11/14/14.

Docket Numbers: ER15-178-000.

Applicants: Southern California Edison Company.

Description: § 205(d) rate filing per 35.13(a)(2)(iii): Distribution Serv Agmt with Ecos Energy, LLC for Shoshone Valley Solar Project to be effective 12/24/2014.

Filed Date: 10/24/14.

Accession Number: 20141024-5003.

Comments Due: 5 p.m. ET 11/14/14.

Docket Numbers: ER15-179-000.

Applicants: Nevada Power Company.

Description: Baseline eTariff Filing per 35.1: NV Energy OATT Relocation—NPC OATT & Service Agreements to be effective 11/1/2014.

Filed Date: 10/24/14.

Accession Number: 20141024-5048.

Comments Due: 5 p.m. ET 11/14/14.

Docket Numbers: ER15-180-000.

Applicants: Nevada Power Company.

Description: Tariff Withdrawal per 35.15: NV Energy OATT Relocation' Cancellation of NPC-NVE Concurrence to be effective 11/1/2014.

Filed Date: 10/24/14.

Accession Number: 20141024-5052.

Comments Due: 5 p.m. ET 11/14/14.

Docket Numbers: ER15-181-000.

Applicants: Sierra Pacific Power Company.

Description: Tariff Withdrawal per 35.15: NV Energy OATT Relocation' Cancellation of SPPC-NVE Concurrence to be effective 11/1/2014.

Filed Date: 10/24/14.

Accession Number: 20141024-5055.

Comments Due: 5 p.m. ET 11/14/14.

Docket Numbers: ER15-182-000.

Applicants: Sierra Pacific Power Company.

Description: Baseline eTariff Filing per 35.1: NV Energy OATT Relocation—SPPC Concurrence & Service Agreements to be effective 11/1/2014.

Filed Date: 10/24/14.

Accession Number: 20141024-5056.

Comments Due: 5 p.m. ET 11/14/14.

Docket Numbers: ER15-183-000.

Applicants: Nevada Power Company.

Description: Tariff Withdrawal per 35.15: Rate Schedule 122 Collation Correction—Cancel Existing Collation to be effective 11/1/2014.

Filed Date: 10/24/14.

Accession Number: 20141024-5058.

Comments Due: 5 p.m. ET 11/14/14.

Docket Numbers: ER15-184-000.

Applicants: Nevada Power Company.

Description: § 205(d) rate filing per 35.13(a)(2)(iii): Rate Schedule 122 Collation Correction—File With New Collation to be effective 11/1/2014.

Filed Date: 10/24/14.

Accession Number: 20141024-5059.

Comments Due: 5 p.m. ET 11/14/14.

Docket Numbers: ER15-185-000.

Applicants: NV Energy, Inc.

Description: Tariff Withdrawal per 35.15: NV Energy OATT Relocation—Cancellation of NVE Tariff ID to be effective 11/1/2014.

Filed Date: 10/24/14.

Accession Number: 20141024-5060.

Comments Due: 5 p.m. ET 11/14/14.

Docket Numbers: ER15-186-000.

Applicants: Arizona Public Service Company.

Description: § 205(d) rate filing per 35.13(a)(2)(iii): Rate Schedule No. 217 Exhibit B.LIB and Exhibit B.NGA Revision No. 4 to be effective 12/24/2014.

Filed Date: 10/24/14.

Accession Number: 20141024-5072.

Comments Due: 5 p.m. ET 11/14/14.

Docket Numbers: ER15-187-000.

Applicants: PJM Interconnection, L.L.C.

Description: § 205(d) rate filing per 35.13(a)(2)(iii): First Revised Service Agreement No. 2367; Queue Z1-088 to be effective 9/25/2014.

Filed Date: 10/24/14.

Accession Number: 20141024-5077.

Comments Due: 5 p.m. ET 11/14/14.

Docket Numbers: ER15-188-000.

Applicants: PJM Interconnection, L.L.C.

Description: § 205(d) rate filing per 35.13(a)(2)(iii): First Revised Service Agreement No. 2390; Queue Z1-089 to be effective 9/25/2014.

Filed Date: 10/24/14.

Accession Number: 20141024-5083.

Comments Due: 5 p.m. ET 11/14/14.

Docket Numbers: ER15-189-000.

Applicants: PJM Interconnection, L.L.C.

Description: § 205(d) rate filing per 35.13(a)(2)(iii): Original Service Agreement No. 3986; Queue No. W3-099 to be effective 9/24/2014.

Filed Date: 10/24/14.

Accession Number: 20141024-5093.

Comments Due: 5 p.m. ET 11/14/14.

Docket Numbers: ER15-190-000.

Applicants: Duke Energy Renewable Services, LLC.

Description: Baseline eTariff Filing per 35.1: Duke Energy Renewable Services MBR Application to be effective 12/1/2014.

Filed Date: 10/24/14.

Accession Number: 20141024-5094.

Comments Due: 5 p.m. ET 11/14/14.

Docket Numbers: ER15-191-000.

Applicants: Duke Energy Progress, Inc.

Description: § 205(d) rate filing per 35.13(a)(2)(iii): Depreciation Rate Schedule and PPA Filing to be effective 1/1/2013.

Filed Date: 10/24/14.

Accession Number: 20141024-5125.

Comments Due: 5 p.m. ET 11/14/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 24, 2014.
Nathaniel J. Davis, Sr.,
Deputy Secretary.

[FR Doc. 2014-25931 Filed 10-30-14; 8:45 am]

BILLING CODE 6717-01-P